NUCLEAR REGULATORY COMMISSION

[Docket No. NRC-2013-0057]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on April 16, 2013 (78 FR 22561).

1. Type of submission, new, revision, or extension: Extension.

2. The title of the information collection:

NRC Form 136, “Security Termination Statement.”

NRC Form 237, “Request for Access Authorization.”

NRC Form 277, “Request for Visit or Access Authorization.”

3. Current OMB approval number:

3150-0049, NRC Form 136.

3150-0050, NRC Form 237.

3150-0051, NRC Form 277.

4. The form number if applicable: NRC Forms 136, 237, and 277.

5. How often the collection is required: On occasion.

6. Who will be required or asked to report:

NRC Form 136: NRC employees, licensees and contractors.

NRC Form 237: NRC contractors, subcontractors, licensee employees, employees of other government agencies, and other individuals who are not NRC employees.

NRC Form 277: Any employees of approximately 78 licensees and 7 contractors who hold an NRC access authorization and need to make a visit to NRC, other contractor/licensees or government agencies in which access to classified information will be involved or unescorted area access is desired.

7. An estimate of the number of annual responses:

NRC Form 136: 300.

NRC Form 237: 770.

NRC Form 277: 60.

8. The estimated number of annual respondents:

NRC Form 136: 300.

NRC Form 237: 770.

NRC Form 277: 60.

9. An estimate of the total number of hours needed annually to complete the requirement or request:

NRC Form 136: 50.

NRC Form 237: 154.

NRC Form 277: 10.

10. Abstract: The NRC Form 136 is completed by licensees and contractors that are leaving the NRC to acknowledge and accept their continuing security responsibilities. The NRC Form 237 is completed by NRC contractors, subcontractors, licensee employees, employees of other government agencies, and other individuals who are not NRC employees who require an NRC access authorization. The NRC Form 277 is completed by NRC contractors and licensees who have been granted an NRC access authorization and require verification of that access authorization and a need-to-know due to (1) A visit to the NRC, (2) a visit to other contractors/licensees or government agencies in which access to classified information will be involved, or (3) unescorted area access is desired.

The public may examine and have copied for fee publicly available documents, including the final supporting statement, at the NRC's Public Document Room, Room O-1F21, One White Flint North, 11555 Rockville Pike, Rockville, Maryland 20852. The OMB clearance requests are available at the NRC's Web site: http://www.nrc.gov/public-involve/doc-comment/omb/.

The document will be available on the NRC's home page site for 60 days after the signature date of this notice. Comments and questions should be directed to the OMB reviewer listed below by September 9, 2013. Comments received after this date will be considered if it is practical to do so, but assurance of consideration cannot be given to comments received after this date.

Chad Whiteman, Desk Officer,

Office of Information and Regulatory Affairs (3150-0049, -0050, -0051),

NEOB-10202,

Office of Management and Budget,

Washington, DC 20503.

Comments can also be emailed to Chad_S_Whiteman@omb.eop.gov or submitted by telephone at 202-395-4718.

The NRC Clearance Officer is Tremaine Donnell, 301-415-6258.

Dated at Rockville, Maryland this 5th day of August, 2013.
For the Nuclear Regulatory Commission.
Tremaine Donnell,
NRC Clearance Officer, Office of Information Services.

[FR Doc. 2013-19174 Filed 8-7-13; 8:45 am]

BILLING CODE 7590-01-P